DEPARTMENT OF THE INTERIOR

National Park Service

National Park of American Samoa; Federal Advisory Commission; Notice of Meeting

Notice is given in accordance with the Federal Advisory Committee Act that a meeting of the National Park of American Samoa Federal Advisory Commission will be held from 10 a.m. to 5 p.m., Saturday, July 28, 2001, at the National Tropical Botanical Garden, 3530 Papalina Rd., Kalaheo on the Island of Kauai, Hawaii. The agenda for the meeting will include:

Roll Call, Welcome and introductions

Superintendents report and discussion

Other Board issues

Public comments

The meeting is open to the public and opportunity will be provided for public comments prior to closing the meeting. The meeting will be recorded for documentation and transcribed for dissemination. Minutes of the meeting will be available to the public after they have been approved by the full Advisory Commission. For copies of the minutes, contact the National Park of American Samoa Superintendent at 011 (684) 633-7082 or email NPSA_Superintendent@nps.gov.

Dated: June 21, 2001.
Charles Cranfield,
Superintendent, National Park of American Samoa.

[FR Doc. 01-17829 Filed 7-16-01; 8:45 am]

BILLING CODE 4310-70-P